FEDERAL COMMUNICATIONS COMMISSION

Federal Advisory Committee Act; Independent Panel Reviewing the Impact of Hurricane Katrina on Communications Networks

AGENCY: Federal Communications Commission.

ACTION: Notice of public meeting.

SUMMARY: In accordance with the Federal Advisory Committee Act, this notice advises interested persons that the Federal Communications Commission's (FCC) Independent Panel Reviewing the Impact of Hurricane Katrina on Communications Networks will hold its next meeting on Monday, March 6, at 10 a.m. Central Time (11 a.m. Eastern Time) at the Mississippi e-Center at Jackson State University, 1230 Raymond Road, Jackson, MS 39204. If necessary to complete its planned business for this meeting, the Panel will reconvene on Tuesday, March 7, 2006 at 9:30 a.m. Central Time at the same location.

DATES: March 6, 2006, at 10 a.m. Central Time (11 a.m. Eastern Time) and, if necessary, Tuesday, March 7, 2006 at 9:30 a.m. Central Time.

ADDRESSES: Mississippi e-Center at Jackson State University, 1230 Raymond Road, Jackson, MS 39204.

FOR FURTHER INFORMATION CONTACT: Lisa M. Fowlkes, Designated Federal Officer of the FCC's Independent Panel at 202-418-7452 or e-mail: lisa.fowlkes@fcc.gov.

SUPPLEMENTARY INFORMATION: The Independent Panel was established to review the impact of Hurricane Katrina on the telecommunications and media infrastructure in the areas affected by the hurricane. Specifically, the Independent Panel will study the impact of Hurricane Katrina on all sectors of the telecommunications and media industries, including public safety communications. The Independent Panel will also review the sufficiency and effectiveness of the recovery effort with respect to this infrastructure. The Independent Panel will then make recommendations to the Federal Communications Commission (“Commission” or “FCC”) by June 15, 2006 regarding ways to improve disaster preparedness, network reliability, and communications among first responders such as police, fire fighters, and emergency medical personnel.

At its next meeting, the Independent Panel will hear oral presentations regarding: (1) The impact of Hurricane Katrina on the telecommunications and media infrastructure including public safety communications; (2) the sufficiency and effectiveness of the recovery effort with respect to this infrastructure; and (3) ways to improve disaster preparedness, network reliability and communications among first responders such as police, fire fighters and emergency medical personnel. In addition, the Panel's informal working groups will provide reports on their progress.

Members of the general public may attend the meeting. The FCC will attempt to accommodate as many people as possible. However, admittance will be limited to seating availability. Reasonable accommodations for people with disabilities are available upon request. Include a description of the accommodation you will need with as much detail as possible. Also include a way we can contact you if we need more information. Please allow at least 5 days advance notice; last minute requests will be accepted, but may be impossible to fill. Send an e-mail to fcc504@fcc.gov or call the Consumer & Governmental Affairs Bureau at 202-418-0530 (voice), 202-418-0432 (tty).

The public may submit written comments before the meeting to: Lisa M. Fowlkes, the FCC's Designated Federal Officer for the Independent Panel by e-mail: lisa.fowlkes@fcc.gov or U.S. Postal Service Mail (Lisa M. Fowlkes, Enforcement Bureau, Federal Communications Commission, Room 7-C737, 445 12th Street, SW., Washington, DC 20554).

Further information regarding the Independent Panel, including publicly available documents, may be found at the Panel's Web site at http://www.fcc.gov/eb/hkip. In addition, publicly available documents related to the Panel are available for inspection and copying at the FCC's Public Reference Information Center, 445 12th Street, SW., Room CY-A257, Washington, DC.

Federal Communications Commission.
Marlene H. Dortch,
Secretary.

[FR Doc. 06-1561 Filed 2-16-06; 8:45 am]

BILLING CODE 6712-01-P